NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at the University of Wisconsin, #1203.

Dates & Times:

October 25, 2009; 5 p.m.-7 p.m.

October 26, 2009; 7:30 a.m.-8 p.m.

October 27, 2009; 8 a.m.-3 p.m.

Place: University of Wisconsin, Madison, WI.

Type of Meeting: Part-open.

Contact Person: Dr. Charles Ying, Program Director, Materials Research Science and Engineering Centers Program, Division of Materials Research, Room 1065, National Science Foundation, 4201 Wilson Boulevard, Arlington, VA 22230, Telephone (703) 292-8428.

Purpose of Meeting: To provide advice and recommendations concerning further support of the MRSEC at the University of Wisconsin.

Agenda:

Sunday, October 25, 2009

5 p.m.-5:15 p.m.: Closed—Executive Session.

5:15 p.m.-7 p.m.: Open—Review of the Wisconsin MRSEC.

Monday, October 26, 2009

7:30 a.m.-8:45 a.m.: Closed—Executive Session.

8:45 a.m.-4:30 p.m.: Open—Review of the Wisconsin MRSEC.

4:30 p.m.-8 p.m.: Closed—Executive Session and Dinner Meeting.

Tuesday, October 27, 2009

8 a.m.-9 a.m.: Closed—Executive session.

9 a.m.-10 a.m.: Open—Review of the Wisconsin MRSEC.

10 a.m.-3 p.m.: Closed—Executive Session, Draft and Review Report.

Reason for Closing: The work being reviewed may include information of a proprietary or confidential nature, including technical information; financial data, such as salaries and personal information concerning individuals associated with the proposals. These matters are exempt under 5 U.S.C. 552 b(c), (4) and (6) of the Government in the Sunshine Act.

Dated: September 24, 2009.
Susanne Bolton,
Committee Management Officer.

[FR Doc. E9-23415 Filed 9-28-09; 8:45 am]

BILLING CODE 7555-01-P